DEPARTMENT OF ENERGY

Federal Energy Regulatory Commission

[Docket No. CP06-452-000]

Trunkline Gas Company, LLC; Notice of Filing

September 20, 2006.

Take notice that on September 11, 2006, Trunkline Gas Company, LLC (Trunkline Gas), P.O. Box 4967, Houston, Texas 77210-4967, filed an abbreviated application pursuant to the Natural Gas Act (NGA) and part 157 of the Commission's Rules and Regulations requesting authorization for Trunkline Gas to abandon compression by relocation and by replacement, install additional new compression at existing compressor stations, install 36-inch diameter pipeline in Jasper and Newton Counties, Texas and Beauregard and Vermilion Parishes, Louisiana, along with related metering and appurtenant facilities. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659.

The proposed project provides an opportunity for Trunkline Gas to meet increasing shipper requirements for Texas natural gas production to be delivered to the Sabine Henry Hub and the central gulf coast region. Trunkline Gas' open season began on May 23, 2005 and continued through July 28, 2005. As a result of the open season, Trunkline Gas has entered into four precedent agreements for firm transportation of: 335,000 Dth/day for ETC Marketing, Ltd.; 110,000 Dth/day for ProLiance Energy; 40,000 Dth/day for Enbridge Marketing, L.P.; and 25,000 Dth/day for Sequent Energy Management, L.P. The total cost of the proposed project is estimated at $158.9 million. Trunkline Gas proposes to commence construction in May 2007.

Any questions regarding the application are to be directed to William W. Grygar, Rates and Regulatory Affairs, at (713) 989-7000, Trunkline Gas Company, LLC, P.O. Box 4967, Houston, Texas 77210-4967.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: October 11, 2006.

Magalie R. Salas,
Secretary.

[FR Doc. E6-15807 Filed 9-26-06; 8:45 am]

BILLING CODE 6717-01-P